Proclamation 9569 of January 13, 2017

Religious Freedom Day, 2017

By the President of the United States of America

A Proclamation

Believing that “Almighty God hath created the mind free,” Thomas Jefferson authored the Virginia Statute for Religious Freedom after our young Nation declared its independence. This idea of religious liberty later became a foundation for the First Amendment, which begins by stating that “Congress shall make no law respecting an establishment of religion, or prohibiting the free exercise thereof . . .” On Religious Freedom Day, we rededicate ourselves to defending these fundamental principles, pay tribute to the many ways women and men of different religious and non-religious backgrounds have shaped America's narrative, and resolve to continue forging a future in which all people are able to practice their faiths freely or not practice at all.

Religious freedom is a principle based not on shared ancestry, culture, ethnicity, or faith but on a shared commitment to liberty—and it lies at the very heart of who we are as Americans. As a Nation, our strength comes from our diversity, and we must be unified in our commitment to protecting the freedoms of conscience and religious belief and the freedom to live our lives according to them. Religious freedom safeguards religion, allowing us to flourish as one of the most religious countries on Earth, but it also strengthens our Nation as a whole. Brave men and women of faith have challenged our conscience and brought us closer to our founding ideals, from the abolition of slavery to the expansion of civil rights and workers' rights. And throughout our history, faith communities have helped uphold these values by joining in efforts to help those in need—rallying in the face of tragedy and providing care or shelter in times of disaster.

As they built this country, our Founders understood that religion helps strengthen our Nation when it is not an extension of the State. And because our Government does not sponsor a religion—nor pressure anyone to practice a particular faith or any faith at all—we have a culture that aims to ensure people of all backgrounds and beliefs can freely and proudly worship without fear or coercion. Yet in 2015, nearly 20 percent of hate crime victims in America were targeted because of religious bias. That is unacceptable—and as Americans, we have an obligation to do better.

If we are to defend religious freedom, we must remember that when any religious group is targeted, we all have a responsibility to speak up. At times when some try to divide us along religious lines, it is imperative that we recall the common humanity we share—and reject a politics that seeks to manipulate, prejudice, or bias, and that targets people because of religion. Part of being American means guarding against bigotry and speaking out on behalf of others, no matter their background or belief—whether they are wearing a hijab or a baseball cap, a yarmulke or a cowboy hat.

Today, we must also remember those outside the United States who are persecuted for their faith or beliefs, including those who have lost their lives in attacks on sacred places. Religious liberty is more than a cornerstone of American life—it is a universal and inalienable right—and as members of a global community, we must strive to ensure that all people can enjoy that right in peace and security. That is why my Administration has worked with coalitions around the globe to end discrimination against religious minorities, protect vulnerable communities, and promote religious freedom for all. We have also worked to ensure that those who are persecuted for their religious beliefs can find safety and a new home in the United States and elsewhere.

America has changed a great deal since Thomas Jefferson first drafted the Virginia Statute for Religious Freedom, but religious liberty is a right we must never stop striving to uphold. Today, let us work to protect that precious right and ensure all people are able to go about their day in safety and with dignity—without living in fear of violence or intimidation—in our time and for generations to come.

NOW, THEREFORE, I, BARACK OBAMA, President of the United States of America, by virtue of the authority vested in me by the Constitution and the laws of the United States, do hereby proclaim January 16, 2017, as Religious Freedom Day. I call on all Americans to commemorate this day with events and activities that teach us about this critical foundation of our Nation's liberty, and that show us how we can protect it for future generations at home and around the world.

IN WITNESS WHEREOF, I have hereunto set my hand this thirteenth day of January, in the year of our Lord two thousand seventeen, and of the Independence of the United States of America the two hundred and forty-first.

[FR Doc. 2017-01485

Filed 1-18-17; 11:15 am]

Billing code 3295-F7-P